DEPARTMENT OF ENERGY

Federal Energy Regulatory Commission

Combined Notice of Filings #2

Take notice that the Commission received the following electric corporate filings:

Docket Numbers: EC15-175-000.

Applicants: Wisconsin Public Service Corporation.

Description: Application for Approval of Transaction Under Section 203(a)(1)(B) of the Federal Power Act of Wisconsin Public Service Corporation.

Filed Date: 7/24/15.

Accession Number: 20150724-5121

Comments Due: 5 p.m. ET 8/14/15.

Take notice that the Commission received the following electric rate filings:

Docket Numbers: ER13-2318-005; ER13-2317-005; ER13-2319-005.

Applicants: All Dams Generation, LLC, PE Hydro Generation, LLC, Lake Lynn Generation, LLC.

Description: Supplement to March 23, 2015 Notification of Change in Status of the Cube Hydro MBR Sellers.

Filed Date: 7/24/15.

Accession Number: 20150724-5097.

Comments Due: 5 p.m. ET 8/14/15.

Docket Numbers: ER14-2281-000.

Applicants: Homer City Generation, L.P.

Description: Report Filing: Reactive Refund Report to be effective N/A.

Filed Date: 7/24/15.

Accession Number: 20150724-5112.

Comments Due: 5 p.m. ET 8/14/15.

Docket Numbers: ER15-1839-001.

Applicants: Interstate Power and Light Company.

Description: Tariff Amendment: Amendment to IPL Change in Depreciation Rates for Wholesale Production Service to be effective 7/1/2015.

Filed Date: 7/24/15.

Accession Number: 20150724-5122.

Comments Due: 5 p.m. ET 8/14/15.

Docket Numbers: ER15-2264-000.

Applicants: CP Power Sales Seventeen, L.L.C.

Description: Tariff Cancellation: Notice of Cancellation to be effective 7/25/2015.

Filed Date: 7/24/15.

Accession Number: 20150724-5054.

Comments Due: 5 p.m. ET 8/14/15.

Docket Numbers: ER15-2265-000.

Applicants: Southwest Power Pool, Inc.

Description: § 205(d) Rate Filing: Revisions to Modify Procedures for Establishing Trading Hubs and Resource Hubs to be effective 9/23/2015.

Filed Date: 7/24/15.

Accession Number: 20150724-5055.

Comments Due: 5 p.m. ET 8/14/15.

Docket Numbers: ER15-2266-000.

Applicants: NorthWestern Corporation.

Description: § 205(d) Rate Filing: SA 35 2d Revised—NITSA with The Town of Philipsburg to be effective 10/1/2015.

Filed Date: 7/24/15.

Accession Number: 20150724-5070.

Comments Due: 5 p.m. ET 8/14/15.

Docket Numbers: ER15-2267-000.

Applicants: Chevron Power Holdings Inc.

Description: Baseline eTariff Filing: MBR Application to be effective 9/23/2015.

Filed Date: 7/24/15.

Accession Number: 20150724-5086.

Comments Due: 5 p.m. ET 8/14/15.

Docket Numbers: ER15-2268-000.

Applicants: Southwest Power Pool, Inc.

Description: § 205(d) Rate Filing: Attachment AF Tariff Revisions Regarding Components of Mitigated Offers to be effective 9/22/2015.

Filed Date: 7/24/15.

Accession Number: 20150724-5123.

Comments Due: 5 p.m. ET 8/14/15.

Docket Numbers: ER15-2269-000.

Applicants: Midcontinent Independent System Operator, Inc.

Description: § 205(d) Rate Filing: 2015-07-24 2nd Quarter Tariff Clean-Up Filing to be effective 7/25/2015.

Filed Date: 7/24/15.

Accession Number: 20150724-5125.

Comments Due: 5 p.m. ET 8/14/15.

Take notice that the Commission received the following electric securities filings:

Docket Numbers: ES15-39-000.

Applicants: AEP Generating Company, AEP Texas North Company, AEP Texas Central Company, Appalachian Power Company, Indiana Michigan Power Company, Kentucky Power Company, Kingsport Power Company, Public Service Company of Oklahoma, Southwestern Electric Power Company, Wheeling Power Company.

Description: Application Under Section 204 of the Federal Power Act for Authorization to Issue Securities of AEP Generating Company.

Filed Date: 7/24/15.

Accession Number: 20150724-5096.

Comments Due: 5 p.m. ET 8/14/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 24, 2015.
Nathaniel J. Davis, Sr.,
Deputy Secretary.

[FR Doc. 2015-18787 Filed 7-30-15; 8:45 am]

BILLING CODE 6717-01-P